DEPARTMENT OF AGRICULTURE

Rural Business-Cooperative Service

Notice of Revision of a Currently Approved Information Collection

AGENCY: Rural Business-Cooperative Service, USDA.

ACTION: Proposed collection; comments requested.

SUMMARY: In accordance with the Paperwork Reduction Act of 1995, this notice announces the Rural Business-Cooperative Service's intention to request an extension for a currently approved information collection.

DATES: Comments on this notice must be received by January 14, 2019 to be assured of consideration.

FOR FURTHER INFORMATION CONTACT: Thomas Dickson, Rural Development Innovation Center—Regulatory Team, U.S. Department of Agriculture, 1400 Independence Avenue SW, STOP 1522, Washington, DC 20250, Telephone: 202-690-4492, email: Thomas Dickson@wdc.usda.gov.

SUPPLEMENTARY INFORMATION:

Title: Biorefinery, Renewable Chemical, and Biobased Product Manufacturing Assistance Program (Section 9003)

OMB Number: 0570-0065.

Expiration Date of Approval: March 31, 2019.

Type of Request: Revision of a currently approved information collection.

Abstract: The purpose of this information collection is to obtain information necessary to evaluate loan applications to determine the eligibility of the applicant and the project for the program and to qualitatively assess the project's technical and financial merit to determine which projects should be funded.

Estimate of Burden: The following annual estimates are based on an average volume of activity which includes; 10 Phase 1 applications, 8 Phase 2 applications, and 1 new loan guarantees. Phase 1 applications are evaluated by the Agency to determine whether the Borrower is eligible, the proposed loan is for an eligible purpose, there is reasonable assurance of repayment ability, there is sufficient Collateral and equity, and the proposed loan complies with all applicable statutes and regulations. Phase 2 applications are required for Phase I applicants who score favorable and are invited to submit a Phase 2 application. The Agency anticipates the number of respondents to fluctuate based on funding levels.

Respondents: Respondents for this data are lending institutions and for-profit businesses but also include individuals and corporations. The annual estimates below are for both subparts associated with this rule.

Estimated Number of Respondents: 11.

Estimated Number of Responses per Respondent: 17.7.

Estimated Number of Responses: 195.

Estimated Total Annual Burden on Respondents: 3,631 hours.

Comments: Comments are invited on: (a) Whether the proposed collection of information is necessary for the proper performance of the functions of the Rural Business-Cooperative Service, including whether the information will have practical utility; (b) the accuracy of the Rural Business-Cooperative Service's estimate of the burden of the proposed collection of information including validity of the methodology and assumptions used; (c) ways to enhance the quality, utility and clarity of the information to be collected; and (d) ways to minimize the burden of the collection of information on those who are to respond, including through the use of appropriate automated, electronic, mechanical, or other technological collection techniques or other forms of information technology.

Comments may be sent to Thomas Dickson, Rural Development Innovation Center—Regulatory Team, U.S. Department of Agriculture, Rural Development, STOP 1522, 1400 Independence Avenue SW, Washington, DC 20250-1522.

Copies of this information collection can be obtained from Kimble Brown, Rural Development Innovation Center, Regulations Team, at (202) 692-0043 or email: Kimble.Brown@wdc.usda.gov.

All responses to this notice will be summarized and included in the request for OMB approval. All comments will also become a matter of public record.

Dated: November 1, 2018.
Bette B. Brand,
Administrator, Rural Business-Cooperative Service.

[FR Doc. 2018-24929 Filed 11-14-18; 8:45 am]

BILLING CODE 3410-XY-P